DEPARTMENT OF DEFENSE

Office of the Secretary

[No. DoD-2006-OS-0166]

Submission for OMB Review; Comment Request

ACTION: Notice. The Department of Defense has submitted to OMB for clearance, the following proposal for collection of information under the provisions of the Paperwork Reduction Act (44 U.S.C. Chapter 35).

DATES: Consideration will be given to all comments received by March 1, 2007.

Title, Associated Form, and OMB Number: Police Records Check; DD Form 369; OMB Control Number 0704-0007.

Type of Request: Extension.

Number of Respondents: 175,000.

Responses per Respondent: 1.

Annual Responses: 175,000.

Average Burden per Response: 27 minutes.

Needs and Uses: Per Sections 504 and 505, Title 10 U.S.C., applicants for enlistment must be screened to identify any discreditable involvement with police or other law enforcement agencies. This information is used to identify persons who may be undesirable for military service. The DD Form 369, “Police Records Check,” is forwarded to law enforcement agencies to identify if an applicant has a record.

Affected Public: State, local or tribal government.

Frequency: On Occasion.

Respondent's Obligation: Voluntary.

OMB Desk Officer: Ms. Hillary Jaffe. Written comments and recommendations on the proposed information collection should be sent to Ms. Jaffe at the Office of Management and Budget, Desk Officer for DoD, Room 10236, New Executive Office Building, Washington, DC 20503.

• Federal eRulemaking Portal: http://www.regulations.gov. Follow the instructions for submitting comments.

Instruction: All submissions received must include the agency name, docket number and title for this Federal Register document. The general policy for comments and other submissions from members of the public is to make these submissions available for public viewing on the Internet at http://www.regulations.gov as they are received without change, including any personal identifiers or contact information.

DOD Clearance Officer: Ms. Patricia Toppings. Written requests for copies of the information collection proposal should be sent to Ms. Toppings at WHS/ESD/Information Management Division, 1777 North Kent Street, RPN, Suite 11000, Arlington, VA 22209-2133.

Dated: January 22, 2007.
Patricial L. Toppings,
Alternate OSD Federal Register, Liaison Officer, Department of Defense.

[FR Doc. 07-380 Filed 1-29-07; 8:45 am]

BILLING CODE 5001-06-M